DEPARTMENT OF ENERGY

Office of Energy Efficiency and Renewable Energy

On-Board Fuel Processing Go/No-Go Decision

AGENCY: Office of Energy Efficiency and Renewable Energy, Golden Field Office, Department of Energy (DOE).

ACTION: Notice of on-board fuel processing go/no-go decision.

SUMMARY: The Department of Energy (the Department or DOE) today gives notice of the June 30, 2004, decision regarding the future of on-board fuel processing activities within the Hydrogen, Fuel Cells and Infrastructure Technologies Program. A review panel has been assembled by the National Renewable Energy Laboratory (NREL) to review the current state of fuel processing activities against technical criteria. Based on the panel findings, NREL will submit a written recommendation to the Department regarding the technical decision regarding the future of on-board processing activities on or before June 18, 2004. The NREL review panel will meet during the May 24 through June 18 time frame to hear presentations that include data to support the technical decision. Position papers regarding the go/no-go decision will be accepted by DOE for consideration in this decision and will also be forwarded to NREL for consideration as a presentation to the review panel. Position papers are limited to 10 pages maximum.

DATES: Written position papers for consideration by the Department regarding this decision must be received by May 15, 2004. NREL must receive requests to speak before the review panel no later than May 15, 2004. Attendees at the review panel will be limited to the current presenter, the panel and NREL, Argonne National Laboratory and DOE representatives.

ADDRESSES: Written position papers regarding the decision and requests to speak before the review panel are welcomed. Please submit 10 copies of the position paper to: U.S. Department of Energy, Office of Energy Efficiency and Renewable Energy, Mail Station EE-2H, Attn: Valri Lightner, 1000 Independence Avenue, SW., Washington, DC 20585-0121, e-mail valri.lightner@ee.doe.gov. Requests to present before the panel should be sent to: U.S. Department of Energy, National Renewable Energy Laboratory, 1617 Cole Boulevard, Golden, CO 80401-3393, Attn: Dale Gardner or via e-mail to dale_gardner@nrel.gov.

FOR FURTHER INFORMATION CONTACT: Ms. Valri Lightner, U.S. Department of Energy, Office of Energy Efficiency and Renewable Energy, Mail Station EE-2H, Attn: Valri Lightner, 1000 Independence Avenue, SW., Washington, DC 20585-0121, phone: (202) 586-0937, e-mail valri.lightner@ee.doe.gov or Mr. Dale Gardner, U.S. Department of Energy, National Renewable Energy Laboratory, 1617 Cole Boulevard, Golden, CO 80401-3393, Attn: Dale Gardner, phone (303) 275-3020, e-mail dale_gardner@nrel.gov.

SUPPLEMENTARY INFORMATION: The mission of the Department of Energy's Hydrogen, Fuel Cells and Infrastructure Technologies Program is to research, develop and validate fuel cell and hydrogen production, delivery, and storage technologies such that hydrogen from diverse domestic resources will be used in a clean, safe, reliable and affordable manner in fuel cell vehicles; central station electric power production; distributed thermal electric; and combined heat and power applications. The President's Hydrogen Fuel Initiative accelerates research, development and demonstration of hydrogen production, delivery and storage technologies to support an industry commercialization decision on the hydrogen economy by 2015. The FreedomCAR partnership is on track for an industry commercialization decision on hydrogen fuel cell vehicles by 2015.

The transition to a hydrogen economy will take decades. During this transition, from about 2010 to 2030, technologies that enable the use of the current liquid fuels infrastructure to provide the hydrogen to power fuel cell vehicles will be required. Several options are being considered, such as fuel reforming on-site at fueling stations or fuel reforming on-board the vehicle for transportation applications. The Department has funded research and development (R&D) of on-board vehicle, fuel processing technologies for 10 years. The R&D has focused on the development of a fuel flexible, fuel processor targeting gasoline, ethanol, methanol and natural gas. Based on the current state of technology development, it is uncertain that on-board fuel processing activities will be on track to meet the ultimate technical criteria to support the transition to a hydrogen economy as shown in Table 1.

Table 1.
Attribute | Units | 2003 status | 2004 demo criteria | Ultimate target
Transient | sec | 60 | <5, 10% to 90% and 90% to 10% | <1, 10% to 90% and 90% to 10%
Start-up Time | sec | <600 (+20°C) | <60 to 90% traction power | <2 to 10%, <30 to 90%
Start-up Energy | MJ/50kWe |  | <2 | <2
Efficiency | % | 78 | 78 | >80
Power density | W/L | 700 | 700 | 2,000
Durability | hours | 2000 | 2000 and >50 stop/starts | 5,000 and 20,000 starts
Sulfur Tolerance | ppb |  | <50 out from 30 ppm in | <10 out from 30 ppm in
Turndown, cost | ratio |  | 20:1 | >50:1
| $/kWe | 65 | n/a | <10

Specifically challenging are start-up time/energy and cost. The Department has decided to review the current state of on-board fuel processing and the technology path forward as a “Go/No-Go Decision” whether to continue on-board fuel processing activities in June 2004. The criteria for the review will be to demonstrate that the 2004 demonstration criteria can be met using available technology as demonstrated in experimental hardware. A clear technical path to achieving the ultimate targets is also required. It is desired that a single system be demonstrated that meets all criteria simultaneously; however, if integration with other technologies is needed to simultaneously meet all targets, the technologies must be compatible. For more information about the Hydrogen, Fuel Cells and Infrastructure technologies Program and related fuel processing activities visit the program's Web site at www.eere.energy.gov/hydrogenandfuelcells.

Issued in Golden, Colorado, on January 21, 2004.
Mary Hartford,
Acting Director, Office of Acquisition and Financial Assistance.

[FR Doc. 04-2272 Filed 2-3-04; 8:45 am]

BILLING CODE 6450-01-P